DEPARTMENT OF HEALTH AND HUMAN SERVICES

National Institutes of Health

Center for Scientific Review; Amended Notice of Meeting

Notice is hereby given of a change in the meeting of the Biology of the Visual System Study Section, October 16, 2013, 08:00 a.m. to October 17, 2013, 05:30 p.m., Hyatt Regency Bethesda, One Bethesda Metro Center, 7400 Wisconsin Avenue, Bethesda, MD 20814 which was published in the Federal Register on September 17, 2013, 78 FR 57169.

The meeting will start on December 5, 2013 at 08:00 a.m. and end on December 6, 2013 at 05:00 p.m. The meeting location remains the same. The meeting is closed to the public.

Dated: October 28, 2013.
Anna Snouffer,
Deputy Director, Office of Federal Advisory Committee Policy.

[FR Doc. 2013-25909 Filed 10-30-13; 8:45 am]

BILLING CODE 4140-01-P